DEPARTMENT OF COMMERCE

International Trade Administration

[A-549-821]

Polyethylene Retail Carrier Bags From Thailand: Correction to the Amended Final Results of Antidumping Duty Administrative Review

AGENCY: Import Administration, International Trade Administration, Department of Commerce.

SUMMARY: On November 3, 2011, the Department of Commerce (the Department) published in the Federal Register the amended final results of the administrative review of the antidumping duty order on polyethylene retail carrier bags from Thailand for the period August 1, 2009, through July 31, 2010. The notice did not include the names and margins of two companies subject to the amended final results of the review. The names and the respective margins are indicated below.

FOR FURTHER INFORMATION CONTACT: Bryan Hansen, AD/CVD Operations, Office 1, Import Administration, International Trade Administration, U.S. Department of Commerce, 14th Street and Constitution Avenue NW., Washington, DC 20230; telephone: (202) 482-3683.

SUPPLEMENTARY INFORMATION:

Background

On November 3, 2011, the Department of Commerce (the Department) published the amended final results of the administrative review of the antidumping duty order on polyethylene retail carrier bags from Thailand. See Polyethylene Retail Carrier Bags From Thailand: Amended Final Results of Antidumping Duty Administrative Review, 76 FR 68137 (November 3, 2011) (Amended Final Results). The period of review is August 1, 2009, through July 31, 2010.

Subsequent to the publication of the Amended Final Results we identified an inadvertent error in the notice. The names and margins of the following two companies not selected for individual examination were omitted:

Trinity Pac Co. Ltd.

U. Yong Industry Co., Ltd.

The weighted-average margin the Department determined for these companies is 28.74 percent. See Memorandum to the File “Polyethylene Retail Carrier Bags from Thailand—Amended Final Results, Margin Calculation for Respondents Not Selected for Individual Examination” dated October 27, 2011. Accordingly, the complete list of companies subject to the Amended Final Results with their respective margin rates is as follows:

Producer/exporter | Percent margin
First Pack Co. Ltd | 28.74
K International Packaging Co., Ltd | 28.74
Landblue (Thailand) Co., Ltd | 25.73
Praise Home Industry, Co. Ltd | 28.74
Siam Flexible Industries Co., Ltd | 28.74
Thai Jirun Co., Ltd | 28.74
Trinity Pac Co. Ltd | 28.74
U. Yong Industry Co., Ltd | 28.74

Cash Deposit Requirements and Assessment Rates

The deposit rates will be effective retroactively on any entries made on or after September 28, 2011, the date of publication of the final results of review, for shipments of polyethylene retail carrier bags from Thailand entered, or withdrawn from warehouse, for consumption on or after the publication date, as provided by section 751(a)(1) of the Act: (1) The cash-deposit rates for the companies subject to the review will be the rates shown above; (2) for previously investigated or reviewed companies not listed above, the cash-deposit rate will continue to be the company-specific rate published for the most recent period; (3) if the exporter is not a firm covered in this or a previous review or the original less-than-fair-value (LTFV) investigation but the manufacturer is, the cash-deposit rate will be the rate established for the most recent period for the manufacturer of the merchandise; (4) the cash-deposit rate for all other manufacturers or exporters will be 4.69 percent, the all-others rate from the amended final determination of the LTFV investigation revised as a result of the Section 129 determination published on August 12, 2010. See Notice of Implementation of Determination Under Section 129 of the Uruguay Round Agreements Act and Partial Revocation of the Antidumping Duty Order on Polyethylene Retail Carrier Bags From Thailand, 75 FR 48940 (August 12, 2010). These deposit requirements, when imposed, shall remain in effect until further notice.

The Department intends to issue liquidation instructions to U.S. Customs and Border Protection 15 days after publication of this correction to the amended final results of review.

This correction to the amended final results of administrative review is issued and published in accordance with sections 751(a)(1) and 777(i)(1) of the Tariff Act of 1930, as amended.

November 9, 2011.
Paul Piquado,
Assistant Secretary for Import Administration.

[FR Doc. 2011-29620 Filed 11-15-11; 8:45 am]

BILLING CODE 3510-DS-P